FEDERAL COMMUNICATIONS COMMISSION

47 CFR Part 73

[DA 08-2277; MB Docket No. 08-97; RM-11428]

Radio Broadcasting Services; Crowell, Knox City, Quanah, and Rule, TX

AGENCY: Federal Communications Commission.

ACTION: Proposed rule.

SUMMARY: This document sets forth a proposal to amend the FM Table of Allotments, Section 73.202(b) of the Commission's rules, 47 CFR Section 73.202(b). The Commission requests comment on a petition filed by LKCM Radio Licenses, L.P. (“Petitioner”), proposing the substitution of Channel 288C2 for vacant Channel 239C2 at Rule, Texas; substitution of Channel 293A for vacant Channel 291A at Knox City, Texas; substitution of Channel 255C3 for vacant Channel 293C3 at Crowell, Texas; and substitution of Channel 251C3 for vacant Channel 255C3 at Quanah, Texas. See SUPPLEMENTARY INFORMATION infra.

DATES: Comments must be filed on or before December 1, 2008, and reply comments on or before December 16, 2008.

ADDRESSES: Federal Communications Commission, Washington, DC 20554. In addition to filing comments with the FCC, interested parties should serve the designated petitioner's counsel as follows: Mark N. Lipp, Esq., Scott Woodworth, Esq., Wiley Rein LLP, 1776 K Street, NW., Washington, DC 20006.

FOR FURTHER INFORMATION CONTACT: Deborah A. Dupont, Media Bureau (202) 418-7072.

SUPPLEMENTARY INFORMATION: This is a synopsis of the Commission's Notice of Proposed Rule Making, MB Docket No. 08-97, adopted October 8, 2008, and released October 10, 2008. Petitioner has also filed applications requesting the following: (1) A change in channel class and community of license for FM Station KJKB from Channel 238A at Jacksboro, Texas, to Channel 238C3 at Scotland, Texas, as that community's first local service; (2) A change in channel class and community of license for FM Station KFWR from Channel 240C1 at Mineral Wells, Texas, to Channel 240C0 at Jacksboro, Texas; (3) A change in channel class and community of license of Station KKAJ-FM from Channel 239C1 at Ardmore, Oklahoma, to Channel 239C2 at Frederick, Oklahoma; and (4) A channel change and change in class of FM Station KYBE from Channel 240A to Channel 239C3 at Frederick, Oklahoma.

To facilitate the allotment of Channel 240C0 to Jacksboro for Station KFWR and Channel 239C3 to Frederick for Station KKAJ-FM, petitioner proposes the substitution of Channel 288C2 for vacant Channel 239C2 at Rule, Texas. Channel 288C2 can be allotted at Rule, consistent with Section 73.207 of the Commission's rules, provided that the vacant allotment at Knox City, Texas, is changed from Channel 291A to Channel 293A. To accommodate the allotment of Channel 293A at Knox City, petitioner proposes the substitution of Channel 255C3 for vacant Channel 293C3 at Crowell, Texas. Finally, in order to allot Channel 255C3 at Crowell, Texas, petitioner requests that the Commission change the channel of the vacant allotment at Quanah, Texas, from Channel 255C3 to Channel 251C3. Channel 255C3 can be allotted at Crowell, Texas, in compliance with the Commission's minimum distance separation requirements with a site restriction of 9.2 km (5.7 miles) north of Crowell. The proposed coordinates for Channel 255C3 at Crowell are 34-03-58 North Latitude and 99-43-52 West Longitude. Channel 293A can be allotted at Knox City, Texas, in compliance with the Commission's minimum distance separation requirements with a site restriction of 2.7 km (1.6 miles) northeast of Knox City. The proposed coordinates for Channel 293A at Knox City are 33-25-55 North Latitude and 99-47-43 West Longitude. Channel 251C3 can be allotted at Quanah, Texas, in compliance with the Commission's minimum distance separation requirements with a site restriction of 11.9 km (7.4 miles) north of Quanah. The proposed coordinates for Channel 251C3 at Quanah are 34-24-09 North Latitude and 99-46-02 West Longitude. Channel 288C2 can be allotted at Rule, Texas, in compliance with the Commission's minimum distance separation requirements with a site restriction of 6.6 km (4.1 miles) east of Rule. The proposed coordinates for Channel 288C2 at Rule are 33-10-29 North Latitude and 99-49-26 West Longitude. The proposed channel changes, if granted, would be subject to the final outcome of MM Docket No. 00-148, due to mutual exclusivity between the proposed substitution at Crowell and a proposal in MM Docket No. 00-148 to add Channel 255C3 at Quanah. The full text of this Commission decision is available for inspection and copying during normal business hours in the FCC Reference Information Center (Room CY-A257), 445 12th Street, SW., Washington, DC 20554. The complete text of this decision may also be purchased from the Commission's copy contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by removing Channel 293C3 and by adding Channel 255C3 at Crowell; by removing Channel 291A and by adding Channel 293A at Knox City; by removing Channel 255C3 and by adding Channel 251C3 at Quanah; and by removing Channel 239C2 and by adding Channel 288C2 at Rule.

Federal Communications Commission.
John A. Karousos,
Assistant Chief, Audio Division, Media Bureau.

[FR Doc. E8-25321 Filed 10-22-08; 8:45 am]

BILLING CODE 6712-01-P